DEPARTMENT OF AGRICULTURE

Farm Service Agency

Commodity Credit Corporation

Information Collection Request; Debt Settlement Policies and Procedures

AGENCY: Farm Service Agency and Commodity Credit Corporation, USDA.

ACTION: Notice; request for comments.

SUMMARY: In accordance with the Paperwork Reduction Act of 1995, the Farm Service Agency (FSA) and the Commodity Credit Corporation (CCC) are requesting comments from all interested individuals and organizations on an extension of a currently approved information collection that supports the FSA and CCC Debt Settlement Policies and Procedures regulations.

DATES: We will consider comments that we receive April 2, 2012.

ADDRESSES: We invite you to submit comments on this notice. In your comments, include date, OMB control number, volume, and page number of this issue of the Federal Register. You may submit comments by any of the following methods:

• Federal eRulemaking Portal: Go to http://regulations.gov. Follow the online instructions for submitting comments.

• Mail: Thomas F. Harris II, Claims Program Specialist, Financial Management Division, Office of Budget and Finance, Farm Service Agency, USDA, STOP 0581, 355 E Street SW., Suite 11-181B, Washington, DC 20024.

Comments also should be sent to the Desk Officer for Agriculture, Office of Information and Regulatory Affairs, Office of Management and Budget, Washington, DC 20503. Copies of the information collection may be obtained from Thomas F. Harris II at the above address.

FOR FURTHER INFORMATION CONTACT: Thomas F. Harris II, Claims Program Specialist, telephone (202) 772-6014.

SUPPLEMENTARY INFORMATION: Title: Debt Settlement Policies and Procedures.

OMB Control Number: 0560-0146.

Expiration Date of Approval: July 31, 2012.

Type of Request: Extension with no revision.

Abstract: This information collection is needed to enable FSA and CCC to effectively administer the regulations at 7 CFR 792 (FSA) and 7 CFR 1403 (CCC) on debt settlement policies and procedures and on the identification of and settlement of outstanding claims. Collection of outstanding debts owed to FSA or to CCC can be effected by installment payments if a debtor furnishes satisfactory evidence of inability to pay a claim in full, and if the debtor specifically requests an installment agreement. Part of the requirement is that the debtor furnishes this request in writing and with a financial statement or other information that would disclose a debtor's assets and liabilities. This information is required in order to evaluate any proposed plan. Such requests for documentation furnished by the debtor are also used in the other collection tools employed by both FSA and CCC in managing debt settlement policies and procedures. If an installment agreement is approved, then a Promissory Note (CCC-279), or an approved alternative promissory note format, must be executed between the debtor and the FSA/CCC representative(s).

During the past two years, over $22,425,803.74 in debt collection for Farm Programs and for the Commodity Office were facilitated by the use of this requested information and 149 Promissory Notes were established between debtors and FSA and CCC from 10/01/2009 to 10/01/2011. Total active Note amount for the past two years is presently 228 total Promissory Notes (includes beginning outstanding notes (227); total notes established (149); notes defaulted (3), notes paid off in full (50); notes paid, small balance loans (41); notes written off (45) and notes discharged in Bankruptcy (09) with a beginning outstanding amount in 2009 of $31,131,509.78, and an ending outstanding amount of $22,425,803.74).

The Debt Collection Improvement Act of 1996 requires the head of an agency to take all appropriate steps to collect delinquent debts before discharging such debts. The current information collection forms and formats have been successfully used for the past several years and have become familiar tools for both the agency employees and for the producer. Thus, adequate forms and formats already exist and are in use. Developing new forms and formats could be costly and is not required to meet the demands of the Debt Collection Improvement Act of 1996. Nonetheless, comment is requested on how the forms and process may be improved, as specified below.

Estimate of burden: Public reporting burden for this information collection is estimated to average 1 hour per response. The average travel time, which is included in the total burden, is estimated to be 1 hour per respondent.

Respondents: Producers participating in FSA and CCC programs.

Estimated number of Annual Respondents: 300.

Estimated number of Responses per Respondent: 1.

Estimated Total Annual Responses: 300.

Estimated Total Annual Burden on Respondents: 200 hours.

We are requesting comments on all aspects of this information collection and to help us to:

(1) Determine whether the continued collection of information is still necessary for the proper performance of the functions of the FSA, including whether the information will have practical utility;

(2) Assess the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on January 27, 2012.
James Monahan,
Acting Administrator Farm Service Agency, and Executive Vice President, Commodity Credit Corporation.

[FR Doc. 2012-2259 Filed 2-1-12; 8:45 am]

BILLING CODE 3410-05-P